DEPARTMENT OF TRANSPORTATION

Federal Aviation Administration

Notice of Availability of a Final Environmental Assessment (Final EA) and a Finding of No Significant Impact (FONSI)/Record of Decision (ROD) for the Proposed Airport Development at Sawyer County Airport, Hayward, WI

AGENCY: Federal Aviation Administration (FAA), DOT.

ACTION: Notice of Availability of a Final Environmental Assessment (Final EA) and Finding of No Significant Impact (FONSI)/Record of Decision (ROD) for the Proposed Airport Development at Sawyer County Airport, Hayward, Wisconsin.

SUMMARY: The Federal Aviation Administration (FAA) is issuing this notice to advise the public that the FAA has prepared, and approved on May 16, 2010, a Finding of No Significant Impact (FONSI)/Record of Decision (ROD) based on the Final Environmental Assessment (Final EA) for the Proposed Airport Development at Sawyer County Airport, Hayward, Wisconsin. The FAA prepared the Final EA in accordance with the National Environmental Policy Act and the FAA's regulations and guidelines for environmental documents. The Final EA was reviewed and evaluated by the FAA, and was accepted on February 16, 2010 as a Federal document by the FAA's Responsible Federal Official. Copies of the FONSI/ROD and/or Final EA are available by contacting Ms. Virginia Marcks through the contact information provided below.

FOR FURTHER INFORMATION CONTACT: Ms. Virginia Marcks, Manager, Infrastructure Engineering Center, AJW-C14D, Federal Aviation Administration, 2300 East Devon Avenue, Des Plaines, Illinois 60018. Telephone number: (847) 294-7494.

SUPPLEMENTARY INFORMATION: The Final EA evaluated the Proposed Airport Development at Sawyer County Airport (HYR) in Hayward, Wisconsin. The Proposed Airport Development would increase aviation safety by adding an Instrument Landing System (ILS) to HYR, which would allow aircraft to land under certain conditions when the weather conditions are poor (i.e., rain, snow, fog, etc). The establishment of an ILS at HYR would also allow the airport to serve as an alternate for other area airports that do not have precision instrument approach capabilities, as there are no airports within 58 miles that are equipped with an ILS.

The FAA and the Wisconsin Department of Transportation Bureau of Aeronautics (WisDOT BOA) jointly prepared the Final EA, pursuant to the requirements of the National Environmental Policy Act and the Wisconsin Environmental Policy Act, respectively. A joint Federal-State EA was prepared since the Proposed Airport Development includes both Federal actions and State block program actions. Actions for the proposed airport development would be taken by the FAA or WisDOT BOA.

Specific construction activities of the Proposed Airport Development include: demolition of approximately 6,435 feet of Airport Road; construction of approximately 6,405 feet of relocated Airport Road; installation of ILS components on the north end of Runway 20; construction of access roads and equipment shelter buildings; construction of the parallel taxiway/ramp expansion on the west side of the runway; obstruction removal, including clearing 27.7 acres of conifer swamp, 11.3 acres of lowland hardwoods swamp, and 10.3 acres of shrub-carr; acquisition of 66 acres of land; and relocation and/or removal of Runway 20 navigational aids.

The Final EA has been prepared in accordance with the National Environmental Policy Act (NEPA) of 1969, as amended, and FAA Order 1050.1E, “Environmental Impacts: Policies and Procedures.” In addition, FAA Order 5050.4B, “National Environmental Policy Act (NEPA) Implementing Instructions for Airport Actions” has been used as guidance in the preparation of the environmental analysis.

Issued in Des Plaines, Illinois, on July 13, 2010.
Virginia Marcks,
Manager, Infrastructure Engineering Center, Chicago, AJW-C14D, Federal Aviation Administration.

[FR Doc. 2010-17935 Filed 7-21-10; 8:45 am]

BILLING CODE 4910-13-P